DEPARTMENT OF THE INTERIOR

Bureau of Indian Affairs

[15X/A11220000.224100/AAK4004800/AX.480ADM100000]

Rate Adjustments for Indian Irrigation Projects

AGENCY: Bureau of Indian Affairs, Interior.

ACTION: Notice of rate adjustments.

SUMMARY: The Bureau of Indian Affairs (BIA) owns, or has an interest in, irrigation projects located on or associated with various Indian reservations throughout the United States. We are required to establish irrigation assessment rates to recover the costs to administer, operate, maintain, and rehabilitate these projects. We are notifying you that we have adjusted the irrigation assessment rates at several of our irrigation projects and facilities to reflect current costs of administration, operation, maintenance, and rehabilitation.

DATES: Effective Date: The irrigation assessment rates shown in the tables as final are effective as of January 1, 2014.

FOR FURTHER INFORMATION CONTACT: For details about a particular BIA irrigation project or facility, please use the tables in the SUPPLEMENTARY INFORMATION section to contact the regional or local office where the project or facility is located.

SUPPLEMENTARY INFORMATION: A Notice of Proposed Rate Adjustment was published in the Federal Register on January 22, 2014 (79 FR 3862) to propose adjustments to the irrigation assessment rates at several BIA irrigation projects. The public and interested parties were provided an opportunity to submit written comments during the 60-day period that ended March 24, 2014.

Did the BIA defer or change any proposed rate increases?

Yes. The proposed notice indicated that Proposed 2014 rate for Duck Valley and Fort Yuma Irrigation Projects was “To Be Determined.” A final rate has been determined and is reflected in the Rate Table. The final rates established here differ from the proposed rates for the following Irrigation projects:

Project name | Rate category | Proposed 2014 rate | Final 2014 rate
Fort Hall Irrigation Project—Michaud | Basic—per acre | $47.50 | $47.00
Fort Peck Irrigation Project | Basic—per acre | 25.00 | 26.00
Wind River Irrigation Project—Units 2, 3 and 4 | Basic—per acre | 22.10 | 21.00
Wind River Irrigation Project—LeClair District | Basic—per acre | 28.82 | 28.80
Wind River Irrigation Project—Riverton Valley Irrigation District | Basic—per acre | 21.02 | 21.00
Pine River Irrigation Project | Basic—per acre | 16.00 | 15.00

Did the BIA receive any comments on the proposed irrigation assessment rate adjustments?

Yes. Written comments were received from the San Carlos Irrigation and Drainage District (SCIDD), by letter dated October 31, 2013, to the Assistant Secretary—Indian Affairs, related to the proposed rate adjustment for FY 2015 for the San Carlos Irrigation Project. A letter from the Director, Bureau of Indian Affairs dated December 12, 2013, responded to SCIDD's letter.

What issues were of concern to the commenters?

Comments received relate specifically to one component of the San Carlos Irrigation Project proposed FY 2015 rate: The planned expenditure for repair of the Coolidge Dam Cylinder Gates.

The BIA's summary of SCIDD's issue and the BIA's response are provided below.

Comment: The recommended 2015 assessment of $35 per acre and proposed budget of $3.5 million include a planned expenditure of $1.8 million, or $18 per acre, for the repair of the Coolidge Dam Cylinder Gates. This $1,800,000 was collected in three $500,000 previous payments in 2012, 2013, and 2014, and the 2015 budget proposes an additional collection of $300,000. We now understand that this work will be funded through the BIA Safety of Dams Program.

Response: The governing documents of the San Carlos Irrigation Project required the operation and maintenance costs for the Project to be paid for by assessments on the lands in the Project. Accordingly, the Project has correctly assessed and collected funds for repair of the Coolidge Dam Cylinder Gates. The BIA Safety of Dams Program is funding an independent engineering review of the designs and cost estimates for the gate repair. The review will produce final engineering designs and drawings which the Project expects to use for the repair work. The Project has reiterated this point to SCIDD at recent water user meetings.

Does this notice affect me?

This notice affects you if you own or lease land within the assessable acreage of one of our irrigation projects or if you have a carriage agreement with one of our irrigation projects.

Where can I get information on the regulatory and legal citations in this notice?

You can contact the appropriate office(s) stated in the tables for the irrigation project that serves you, or you can use the Internet site for the Government Publishing Office at www.gpo.gov.

What authorizes you to issue this notice?

Our authority to issue this notice is vested in the Secretary of the Interior by 5 U.S.C. 301 and the Act of August 14, 1914 (38 Stat. 583; 25 U.S.C. 385). The Secretary has in turn delegated this authority to the Assistant Secretary—Indian Affairs under Part 209, Chapter 8.1A, of the Department of the Interior's Departmental Manual.

Whom can I contact for further information?

The following tables are the regional and project/agency contacts for our irrigation facilities.

Project name | Project/Agency Contacts
Northwest Region Contacts
Stanley Speaks, Regional Director, Bureau of Indian Affairs, Northwest Regional Office, 911 N.E. 11th Avenue, Portland, Oregon 97232-4169, Telephone: (503) 231-6702.
Fort Hall Irrigation Project | Randy Thompson, Acting Superintendent, David Bollinger, Irrigation Project Manager, Fort Hall Agency, P.O. Box 220, Fort Hall, ID 83203-0220, Telephone: (208) 238-2301.
Wapato Irrigation Project | Edwin Lewis, Project Administrator, Wapato Irrigation Project, P.O. Box 220, Wapato, WA 98951-0220, Telephone: (509) 877-3155.
Rocky Mountain Region Contacts
Darryl LaCounte, Acting Regional Director, Bureau of Indian Affairs, Rocky Mountain Regional Office, 316 North 26th Street, Billings, Montana 59101, Telephone: (406) 247-7943.
Project Name | Agency/Project Contacts
Blackfeet Irrigation Project | Thedis Crow, Acting Superintendent, Greg Tatsey, Irrigation Project Manager, Box 880, Browning, MT 59417, Telephones: (406) 338-7544, Superintendent, (406) 338-7519, Irrigation Project Manager.
Crow Irrigation Project | Vianna Stewart, Superintendent, Kyle Varvel, Irrigation Project Manager, P.O. Box 69, Crow Agency, MT 59022, Telephones: (406) 638-2672, Superintendent, (406) 638-2863, Irrigation Project Manager.
Fort Belknap Irrigation Project | Susan Messerley, Acting Superintendent, Vacant, Irrigation Project Manager, (Project operations & management contracted to Tribes), R.R.1, Box 980, Harlem, MT 59526, Telephones: (406) 353-2901, Superintendent, (406) 353-8454, Irrigation Project Manager (Tribal Office).
Fort Peck Irrigation Project | Howard Beemer, Superintendent, Huber Wright, Acting Irrigation Project Manager, P.O. Box 637, Poplar, MT 59255, 602 6th Avenue North, Wolf Point, MT 59201, Telephones: (406) 768-5312, Superintendent, (406) 653-1752, Irrigation Project Manager.
Wind River Irrigation Project | Norma Gourneau, Superintendent Vacant, Irrigation Project Manager, P.O. Box 158, Fort Washakie, WY 82514, Telephones: (307) 332-7810, Superintendent (307) 332-2596, Irrigation Project Manager.
Southwest Region Contacts
William T. Walker, Regional Director, Bureau of Indian Affairs, Southwest Regional Office, 1001 Indian School Road, Albuquerque, New Mexico 87104, Telephone: (505) 563-3100.
Pine River Irrigation Project | Priscilla Bancroft, Acting Superintendent, Vickie Begay, Irrigation Project Manager, P.O. Box 315, Ignacio, CO 81137-0315, Telephones: (970) 563-4511, Superintendent, (970) 563-9484, Irrigation Project Manager
Western Region Contacts
Bryan Bowker, Regional Director, Bureau of Indian Affairs, Western Regional Office, 2600 N. Central Ave., 4th Floor Mailroom, Phoenix, Arizona 85004, Telephone: (602) 379-6600.
Project Name | Project/Agency Contacts
Colorado River Irrigation Project | Kellie Youngbear, Superintendent, Gary Colvin, Irrigation Project Manager, 12124 1st Avenue, Parker, AZ 85344, Telephone: (928) 669-7111.
Duck Valley Irrigation Project | Joseph McDade, Superintendent, (Project operations & management compacted by the Tribes), 2719 Argent Ave., Suite 4, Elko, NV 89801, Telephone: (775) 738-5165, (208) 759-3100 (Tribal Office).
Fort Yuma Irrigation Project | Irene Herder, Superintendent, 256 South Second Avenue, Suite D, Yuma, AZ 85364, Telephone: (928) 782-1202.
San Carlos Irrigation Project, Indian Works and Joint Works | Ferris Begay, Project Manager, Clarence Begay, Irrigation Manager, 13805 N. Arizona Boulevard, Coolidge, AZ 85228, Telephone: (520) 723-6223.
Uintah Irrigation Project | Bart Stevens, Superintendent, P.O. Box 130, Fort Duchesne, UT 84026, Telephone: (435) 722-4300, Telephone: (435) 722-4341.
Walker River Irrigation Project | Marilyn Bitsillie, Acting Superintendent, 311 E. Washington Street, Carson City, NV 89701, Telephone: (775) 887-3500.

What irrigation assessments or charges are adjusted by this notice?

The rate table below contains the current rates for all irrigation projects where we recover costs of administering, operating, maintaining, and rehabilitating them. The table also contains the final rates for the 2014 season and subsequent years where applicable. An asterisk immediately following the name of the project notes the irrigation projects where 2014 rates are different from the 2013 rates.

* Notes irrigation projects where rates are proposed for adjustment.

Note #1—The Operation and Maintenance (O&M) rate varies yearly based upon the budget submitted by the LeClair District.

Note #2—The O&M rate for the Yuma Project, Indian Unit has two components. The first component is the O&M rate established by the Bureau of Reclamation (BOR), the owner and operator of the Project. The BOR rate for 2014 is $89.50/acre. The second component is for the O&M rate established by BIA to cover administrative costs including billing and collections for the Project. The 2014 BIA rate remains unchanged at $1.50/acre.

Note #3—The FY 2014 rate was established by final notice in the Federal Register on January 23, 2014 (79 FR 3862). The Construction Water Rate Schedule was established by final notice in the Federal Register on January 23, 2014 (79 FR 3862). The FY 2015 rate was proposed by notice in the Federal Register on January 22, 2014 (79 FR 3614). This notice establishes the final rate of $35/acre for FY 2015.

Note #4—The 2014 O&M rate for the San Carlos Irrigation Project—Indian Works has three components. The first component is the O&M rate established by the San Carlos Irrigation Project—Indian Works, the owner and operator of the Project; this rate is proposed to be $45 per acre. The second component is for the O&M rate established by the San Carlos Irrigation Project—Joint Works and is determined to be $30.00 per acre. The third component is the O&M rate established by the San Carlos Irrigation Project Joint Control Board and is estimated to be $6 per acre.

Consultation and Coordination With Tribal Governments (Executive Order 13175)

To fulfill its consultation responsibility to tribes and tribal organizations, BIA communicates, coordinates, and consults on a continuing basis with these entities on issues of water delivery, water availability, and costs of administration, operation, maintenance, and rehabilitation of projects that concern them. This is accomplished at the individual irrigation project by Project, Agency, and Regional representatives, as appropriate, in accordance with local protocol and procedures. This notice is one component of our overall coordination and consultation process to provide notice to, and request comments from, these entities when we adjust irrigation assessment rates.

Actions Concerning Regulations That Significantly Affect Energy Supply, Distribution, or Use (Executive Order 13211)

The rate adjustments will have no adverse effects on energy supply, distribution, or use (including a shortfall in supply, price increases, and increase use of foreign supplies) should the proposed rate adjustments be implemented. This is a notice for rate adjustments at BIA-owned and operated irrigation projects, except for the Fort Yuma Irrigation Project. The Fort Yuma Irrigation Project is owned and operated by the Bureau of Reclamation with a portion serving the Fort Yuma Reservation.

Regulatory Planning and Review (Executive Order 12866)

These rate adjustments are not a significant regulatory action and do not need to be reviewed by the Office of Management and Budget under Executive Order 12866.

Regulatory Flexibility Act

These rate adjustments are not a rule for the purposes of the Regulatory Flexibility Act because they establish “a rule of particular applicability relating to rates.” 5 U.S.C. 601(2).

Unfunded Mandates Reform Act of 1995

These rate adjustments do not impose an unfunded mandate on State, local, or tribal governments in the aggregate, or on the private sector, of more than $130 million per year. The rule does not have a significant or unique effect on State, local, or tribal governments or the private sector. Therefore, the Department is not required to prepare a statement containing the information required by the Unfunded Mandates Reform Act (2 U.S.C. 1531 et seq.).

Takings (Executive Order 12630)

The Department has determined that these rate adjustments do not have significant “takings” implications. The rate adjustments do not deprive the public, state, or local governments of rights or property.

Federalism (Executive Order 13132)

The Department has determined that these rate adjustments do not have significant Federalism effects because they will not affect the States, the relationship between the national government and the States, or the distribution of power and responsibilities among various levels of government.

Civil Justice Reform (Executive Order 12988)

In issuing this rule, the Department has taken the necessary steps to eliminate drafting errors and ambiguity, minimize potential litigation, and provide a clear legal standard for affected conduct, as required by section 3 of Executive Order 12988.

Paperwork Reduction Act of 1995

These rate adjustments do not affect the collections of information which have been approved by the Office of Information and Regulatory Affairs, Office of Management and Budget, under the Paperwork Reduction Act of 1995. The OMB Control Number is 1076-0141 and expires March 31, 2016.

National Environmental Policy Act

The Department has determined that these rate adjustments do not constitute a major Federal action significantly affecting the quality of the human environment and that no detailed statement is required under the National Environmental Policy Act of 1969 (42 U.S.C. 4321-4370(d)).

Data Quality Act

In developing this notice, we did not conduct or use a study, experiment, or survey requiring peer review under the Data Quality Act (Pub. L. 106-554).

Dated: February 26, 2015.
Kevin K. Washburn,
Assistant Secretary—Indian Affairs.

[FR Doc. 2015-05265 Filed 3-5-15; 8:45 am]

BILLING CODE 4310-W7-P